DEPARTMENT OF TRANSPORTATION

Federal Aviation Administration

14 CFR Part 65

[Docket No. FAA-2014-0820]

Establishment of Policy Regarding Aircraft Dispatcher Certification Courses

AGENCY: Federal Aviation Administration (FAA), Department of Transportation (DOT).

ACTION: Notice of availability of proposed FAA Order 8900.1 Volume 3, Chapter 63, Aircraft Dispatcher Certification Courses and Proposed Advisory Circular (AC) 65-XX (Number to be Determined), FAA-Approved Aircraft Dispatcher Certification Courses—Availability of Additional Supporting Documents and Extension of Comment Period.

SUMMARY: This notice announces the availability of additional supporting documents and an extension of the comment period for the proposed policy applicable to Aircraft Dispatcher Certification Courses, which was published in this docket on October 22, 2014.

DATES: Extension of Comment Period. The comment period for the draft Aircraft Dispatcher Certification Course Policy published on October 22, 2014, which was scheduled to close on December 22, 2014, is hereby extended to February 22, 2015.

ADDRESSES: Send comments identified by docket number FAA-2014-0820 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Theodora Kessaris, New Program Implementation and Technical Support Branch, Flight Standards Service, Federal Aviation Administration, 800 Independence Avenue SW., Washington, DC 20591; telephone: 202-267-8166; facsimile: 202-267-5229; email: Theodora.kessaris@faa.gov.

Background

On October 22, 2014, the FAA published a proposed a new chapter of FAA Order 8900.1 and a proposed new AC related to Aircraft Dispatcher Certification Courses. The new chapter in FAA Order 8900.1 chapter establishes Policy not previously addressed in FAA Orders or ACs. The associated AC, 65-XX, provides guidelines to operators and potential operators of Aircraft Dispatcher Certification Courses. On November 06, 2014, Sheffield School of Aeronautics placed a comment in this docket requesting the publication of additional supporting documents which contain policy related to Designated Aircraft Dispatcher Examiners (DADE). Additionally, Sheffield requested the FAA consider extending the comment period, which is scheduled to close on December 22, 2014. In response to these requests, we have extended the comment period for the Aircraft Dispatcher Certification Course Policy contained in this docket for another 60 days to allow additional review by industry stakeholders. We have also made the DADE policy supporting documents available for review only, in their own respective docket, which is FAA-2011-1149. That particular docket, which is not open for comment, can be accessed at the following URL: http://www.regulations.gov/#!docketDetail;D=FAA-2011-1149.

The FAA does not anticipate any further extension of the comment period for the draft policy related to Aircraft Dispatcher Certification Courses, contained in this docket.

The agency will consider all comments received by February 22, 2015. Comments received after that date may be considered if consideration will not delay agency action on the review. A copy of the proposed order and AC is available for review in the assigned docket for the Order at http://www.regulations.gov.

Issued in Washington, DC, on December 15, 2014.
John Barbagallo,
Deputy Director, FAA Flight Standards Service.

[FR Doc. 2014-30221 Filed 12-23-14; 8:45 am]

BILLING CODE 4910-13-P